DEPARTMENT OF COMMERCE

National Oceanic and Atmospheric Administration

50 CFR Part 648

[Docket No. 070717341-8549-02]

RIN 0648-AV41

Fisheries of the Northeastern United States; Recreational Management Measures for the Summer Flounder, Scup, and Black Sea bass Fisheries; Fishing Year 2008

AGENCY: National Marine Fisheries Service (NMFS), National Oceanic and Atmospheric Administration (NOAA), Commerce.

ACTION: Final rule; correction.

SUMMARY: On May 23, 2008, NMFS published a final rule implementing the recreational management measures for the 2008 summer flounder, scup, and black sea bass fisheries. The final rule contains several errors throughout the preamble. This document corrects those errors.

DATES: Effective June 23, 2008.

FOR FURTHER INFORMATION CONTACT: Michael Ruccio, Fishery Policy Analyst, (978) 281-9104.

SUPPLEMENTARY INFORMATION: The final rule for the 2008 recreational management measures for summer flounder, scup, and black sea bass was published in the Federal Register on May 23, 2008 (73 FR 29990). There were several errors throughout the preamble text.

Corrections

In final rule FR Doc. E8-11601, on page 29991 of the May 23, 2008, issue of the Federal Register, make the following corrections:

1. On page 29991, in column 3, under the Black Sea Bass Management Measures caption, the first sentence is corrected to read as follows:

“Table 3 contains the coastwide Federal measures for black sea bass in effect for 2007 and codified.”

2. On page 29992, in column 1, under the Comments and Responses caption, the second sentence is corrected to read as follows:

“One individual submitted comments regarding several species such as mackerel, red hake, and marlin which are outside the scope of this rulemaking.”

3. On page 29992, in column 1, under the Comment 1 caption, the first sentence is corrected to read as follows:

“Some of the comments received allege that state-by-state conservation equivalency violates National Standard 2 of the Magnuson-Stevens Act, which requires conservation and management actions to be based upon the best available scientific information.”

4. On page 29992, in column 2, in the 27th line, the sentence is corrected to read as follows:

“In addition, NMFS encouraged states to take a more conservative approach to both improve conservation equivalency's performance and to offset uncertainty in the assessment of potential measures effectiveness.”

5. On page 29992, in column 3, the first full paragraph should read:

“The use of MRFSS data was challenged, along with other aspects of the agency's actions, in 2006 in the case United Boatmen, et al., v. Gutierrez³, the Secretary of Commerce (Secretary). The plaintiffs alleged that MRFSS was a gravely flawed tool and unsuitable for use in setting the summer flounder TAL. NMFS responded that MRFSS, while admittedly having limitations, has been upheld under National Standard 2 as the best available scientific information. The defendants' brief cited three separate cases wherein MRFSS had been upheld as the best available scientific information relative to National Standard 2. In this case, the judge found in favor of the Secretary on all points, adding further support to the adequacy of MRFSS data for use in fisheries management as the best available science.”

6. On page 29993, in column 3, the last full paragraph is corrected to read as follows:

“For these reasons, NMFS believes that implementing conservation equivalency, as recommended by the Council and Commission for 2008, does not violate National Standard 4 or National Standard 2 of the Magnuson-Stevens Act.”

7. On page 29994, in column 1, in the first full paragraph, the forth sentence is corrected to read as follows:

“National Standard 6 directs FMPs to have a suitable buffer, in favor of conservation, to deal with uncertainty, which may also be stated as a conservative approach.”

8. On page 29995, in column 2, in the 13th line the sentence is corrected to read as follows:

“As such, it is a more conservative approach than applied in previous years, and presents a higher likelihood that the 2008 recreational harvest limit will not be exceeded on either a state-by-state basis or coastwide, and that the subsequent mortality objectives will be met for the 2008 fishing year.”

9. On page 29996, in column 1, in the first full paragraph, the first sentence is corrected to read as follows:

“NMFS acknowledges that state-by-state conservation equivalency has not performed ideally, since the summer flounder recreational harvest limit has been exceeded in 5 of the 7 years where it has been utilized.”

10. On page 29997, in column 1, the first full paragraph is corrected to read as follows:

“A summary of the comments received and NMFS' responses thereto is contained in the preamble of this rule. None of those comments addressed specific information contained in the IRFA economic analysis. One comment received stated that NMFS had not conducted an economic analysis for the 2008 recreational management measures and some commenters generally indicated that the management measures implemented by this rule may have an economic impact. See response to Comment 7 in the Comment and Responses section for more information. No changes have been made from the proposed rule as a result of the comments received by NMFS.”

11. On page 29998, in column 2,in the 13th line from the bottom, the sentence is corrected to read as follows:

“Conservation equivalency is generally expected to mitigate the economic impact in states with lower required percent reductions for 2008 compared to the coastwide reduction of 33.2 percent.”

Authority: 16 U.S.C. 1801 et seq.

Dated: May 29, 2008.
Samuel D. Rauch III,
Deputy Assistant Administrator for Regulatory Programs, National Marine Fisheries Service.

[FR Doc. 08-1317 Filed 5-30-08; 2:51 pm]

BILLING CODE 3510-22-S